DEPARTMENT OF EDUCATION

National Advisory Committee on Institutional Quality and Integrity: Notice of Members

AGENCY: National Advisory Committee on Institutional Quality and Integrity: Notice of Members, Department of Education.

What is the purpose of this notice?

The purpose of this notice is to list the members of the National Advisory Committee on Institutional Quality and Integrity (NACIQI). This notice is required under Section 114(e)(1) of the Higher Education Act of 1965, as amended (HEA).

What is the role of NACIQI?

The NACIQI is established under Section 114 of the HEA, and is composed of 18 members appointed—

(A) On the basis of the individuals' experience, integrity, impartiality, and good judgment;

(B) From among individuals who are representatives of, or knowledgeable concerning, education and training beyond secondary education, representing all sectors and types of institutions of higher education; and

(C) On the basis of the individuals' technical qualifications, professional standing, and demonstrated knowledge in the fields of accreditation and administration of higher education.

The NACIQI meets at least twice a year and provides recommendations to the Secretary of Education pertaining to:

• The establishment and enforcement of the standards of accrediting agencies or associations under subpart 2 of part H of Title IV, HEA.

• The recognition of specific accrediting agencies or associations.

• The preparation and publication of the list of nationally recognized accrediting agencies and associations.

• The eligibility and certification process for institutions of higher education under Title IV of the HEA.

• The relationship between (1) accreditation of institutions of higher education and the certification and eligibility of such institutions, and (2) State licensing responsibilities with respect to such institutions.

• Any other advisory functions relating to accreditation and institutional eligibility that the Secretary may prescribe by regulation.

What are the terms of office for the committee members?

The term of office of each member is six years, except that the terms of office for the initial members of the Committee shall be three years for members appointed by the Secretary; four years for members appointed by the Speaker of the House of Representatives; and six years for members appointed by the President Pro Tempore of the Senate. Any member appointed to fill a vacancy occurring prior to the expiration of the term for which the member's predecessor was appointed is appointed for the remainder of the term.

Who are the current members of the committee?

The current members of the NACIQI are:

Members appointed by Secretary of Education Arne Duncan with Terms Expiring September 30, 2013:

• Dr. Earl Lewis, Provost and Executive Vice President for Academic Affairs, Emory University, Georgia.

• Dr. Susan D. Phillips, Provost and Vice President for Academic Affairs, The State University of New York, the University at Albany, New York.

• Mr. Beter-Aron Shimeles, student member, Bay Area Fellow for Peer Health Exchange, Occidental College, California.

• Ms. Jamienne Studley, President and Chief Executive Officer (CEO), Public Advocates, Inc., California.

• Mr. Frank Wu, Chancellor and Dean, University of California, Hastings College of the Law, California.

• Dr. Federico Zaragoza, Vice Chancellor of Economic and Workforce Development, Alamo Community College District, Texas.

Members appointed by Speaker of the House of Representatives Nancy Pelosi, with Terms Expiring September 30, 2014:

• Dr. Benjamin Allen, President, University of Northern Iowa, Iowa.

• Dr. Arthur Keiser, Chancellor, Keiser University, Florida.

• Dr. William E. Kirwan, Chancellor, University System of Maryland, Maryland.

• Dr. William Pepicello, President, University of Phoenix, Arizona.

• Mr. Arthur J. Rothkopf, President Emeritus, Lafayette College, District of Columbia.

• Dr. Carolyn Williams, President, Bronx Community College, New York.

Members appointed by President Pro Tempore of the Senate Daniel Inouye, with Terms Expiring September 30, 2016:

• Mr. Bruce Cole, President and CEO, American Revolution Center, District of Columbia.

• Ms. Anne Neal, President, American Council of Trustees and Alumni, District of Columbia.

• Mr. Daniel Klaich, Chancellor, Nevada System of Higher Education, Nevada.

• Dr. Wilfred McClay, Suntrust Bank Chair of Excellence in Humanities, University of Tennessee at Chattanooga, Tennessee.

• The Honorable Cameron C. Staples, State Representative, House of Representatives, Connecticut.

• Dr. Larry N. Vanderhoef, Chancellor Emeritus, University of California Davis, California.

How can I get additional information?

If you have any specific questions about the NACIQI, please contact Melissa Lewis, Executive Director, NACIQI, telephone (202) 219-7009, fax (202) 219-7005, e-mail: Melissa.Lewis@ed.gov, between 9 a.m. and 5 p.m., Monday through Friday.

Electronic Access To This Document

You may view this document, as well as all other Department of Education documents published in the Federal Register, in text or Adobe Portable Document Format (PDF), on the internet at the following site: http://www/ed/gov/news/fedregister. To use PDF, you must have Adobe Acrobat Reader, which is available free at this site. If you have questions about using PDF, call the U.S. Government Printing Office (GPO), toll free at 1-888-293-1800; or in the Washington, DC at (202) 512-1500.

Note: The official version of this document is the document published in the Federal Register. Free internet access to the official edition of the Federal Register and the Code of Federal Regulations is available on GPO Access at: http://www/gpoaccess.gov/nara/index.html.

Eduardo M. Ochoa,
Assistant Secretary For Postsecondary Education.

[FR Doc. 2010-32351 Filed 12-22-10; 8:45 am]

BILLING CODE 4000-01-P